DEPARTMENT OF COMMERCE

National Oceanic and Atmospheric Administration

50 CFR Parts 600 and 660

[Docket No. 9912233477-9347; I.D. 092800C]

Fisheries off West Coast States and in the Western Pacific; Pacific Coast Groundfish Fishery; Trip Limit Adjustments

Correction

In rule document 00-25631 beginning on page 59752, in the issue of Friday, October 6, 2000, make the following correction:

On page 59757, above and below the heading, “C. Trip Limits in the Open Access Fishery” add five (5) asterisks.

[FR Doc. C0-25631 Filed 10-19-00; 8:45 am]

BILLING CODE 1505-01-D

DEPARTMENT OF ENERGY

Federal Energy Regulatory Commission

Notice of Compliance Filing

Correction

In notice document 00-26057 beginning on page 60415 in the issue of Wednesday, October 11, 2000, make the following correction:

On page 60415, in the third column, in the first paragraph, in the first line “RM9-1-014, RP00-23-” should read “RM96-1-014, RP01-23-”

[FR Doc. C0-26057 Filed 10-19-00; 8:45 am]

BILLING CODE 1505-01-D

DEPARTMENT OF JUSTICE

Immigration and Naturalization Service

8 CFR Parts 204 and 245

[INS No. 2048-00]

RIN 1115-AF75

National Interest Waivers for Second Preference Employment-Based Immigrant Physicians Serving in Medically Underserved Areas or at Department of Veterans Affairs Facilities

Correction

In the issue of Tuesday, September 26, 2000, on page 57861, in the second column, in the correction of rule document 00-22832, entry 4. should read “4. On the same page, in the second column, §245.18(18)(h)(1), in the fourth line after “period”, “of” should read “or”.”

[FR Doc. C0-22832 Filed 10-19-00; 8:45 am]

BILLING CODE 1505-01-D